DEPARTMENT OF AGRICULTURE

Agricultural Marketing Service

[Doc. No. AMS-LS-13-0017]

Request for Extension and Revision of a Currently Approved Information Collection for Commodities Covered by the Livestock Mandatory Act of 1999

AGENCY: Agricultural Marketing Service, USDA.

ACTION: Request for comments.

SUMMARY: In accordance with the Paperwork Reduction Act of 1995 (44 U.S.C. Chapter 35), this document announces the Agricultural Marketing Service's (AMS) intention to request approval, from the Office of Management and Budget, for an extension of and revision to the currently approved information collection used to compile and generate cattle, swine, lamb, wholesale pork, and boxed beef market news reports under the Livestock Mandatory Reporting Act of 1999.

DATES: Comments on this document must be received by June 21, 2013 to be assured of consideration.

ADDRESSES: Interested persons are invited to submit comments concerning this information collection document. Comments should be submitted online at www.regulations.gov or sent to Kim Harmon, Assistant to the Director, Livestock, Poultry and Grain Market News Division, Livestock, Poultry and Seed Program, Agricultural Marketing Service, U.S. Department of Agriculture, 1400 Independence Ave. SW., Room 2619-S, Washington, DC 20250-0252, or by facsimile to (202) 690-3732. All comments should reference the docket number (AMS-LS-13-0017), the date, and the page number of this issue of the Federal Register. All comments received will be posted without change, including any personal information provided, online at http://www.regulations.gov and will be made available for public inspection at the above physical address during regular business hours.

FOR FURTHER INFORMATION CONTACT: Kim Harmon at the above physical address, by telephone (202) 720-8054, or by email at Kim.Harmon@ams.usda.gov.

SUPPLEMENTARY INFORMATION: Title: Livestock Mandatory reporting Act of 1999.

OMB Number: 0581-0186.

Expiration Date of Approval: December 31, 2013.

Type of Request: Extension of a currently approved information collection.

Abstract: The 1999 Act was enacted into law on October 22, 1999, (Pub. L. 106-78; 7 U.S.C. 1635-1636i), as an amendment to the Agricultural Marketing Act of 1946 (7 U.S.C. 1621-1627). The 1999 Act as originally passed provided for the mandatory reporting of market information by federally inspected livestock processing plants that have slaughtered an average number of livestock during the immediately preceding 5 calendar years (125,000 for cattle and 100,000 for swine), including any processing plant that did not slaughter during the immediately preceding 5 calendar years if the Secretary determines that the plant should be considered a packer based on the plant's capacity. For entities that did not slaughter during the immediately preceding 5 calendar years, such as a new plant or existing plant that begins operations, AMS projects the plant's annual slaughter or production based upon the plant's estimate of annual slaughter capacity to determine which entities meet the definition of packer as defined in the regulation. The 1999 Act also gave the Secretary the latitude to provide for the reporting of lamb information. Federally inspected lamb processing plants that slaughtered an average of 75,000 head of lambs or processed an average of 75,000 lamb carcasses during the immediately preceding 5 calendar years were required to submit information to AMS. Additionally, a lamb processing plant that did not slaughter an average of 75,000 lambs or process an average of 75,000 lamb carcasses during the immediately preceding 5 calendar years was required to report information if the Secretary determined the processing plant should be considered a packer based on its capacity. In addition, the Act also established that for any calendar year, an importer of lamb that imported an average of 2,500 metric tons of lamb meat products during the immediately preceding 5 calendar years was required to report information on the domestic sales of imported boxed lamb cuts. Additionally, an importer that did not import an average of 2,500 metric tons of lamb meat products during the immediately preceding 5 calendar years was required to report information if the Secretary determined that the person should be considered an importer based on their volume of lamb imports. The regulations implementing the Act appear at 7 CFR part 59.

The 1999 Act was reauthorized in October 2006, which re-established the regulatory authority and amended the swine reporting requirements to include swine packers that slaughtered an average of at least 200,000 sows, boars, and or combination thereof per year during the immediately preceding 5 calendar years. On May 16, 2008, AMS published a final rule (75 FR 28606) implementing the same.

September 28, 2010, the Mandatory Price Reporting Act reauthorized LMR for an additional 5 years and added a provision for mandatory reporting of wholesale pork cuts.

The reports that are generated by the 1999 Act are used by other Government agencies to evaluate market conditions and calculate price levels, such as USDA's Economic Research Service and World Agricultural Outlook Board. Economists at most major agricultural colleges and universities use the reports to make short and long-term market projections. Also, the Government is a large purchaser of livestock related products. A system to monitor the collection and reporting of data therefore is needed.

The information must be collected, compiled, and disseminated by an impartial third-party, in a manner which protects the confidentiality of the reporting entities. AMS is in the best position to provide this service.

Estimate of Burden: Public reporting burden for this collection of information is estimated to average .171 hours per response.

Respondents: Business or other for-profit entities, individuals or households, farms, and the Federal Government.

Estimated Number of Respondents: 422 respondents.

Estimated Number Responses: 138,684 responses.

Estimated Number of Responses per Respondent: 329 responses.

Estimated Total Annual Burden on Respondents: 23,779 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

All responses to this document will be summarized and included in the request for OMB approval. All comments will become a matter of public record.

Dated: April 16, 2013.
David R. Shipman,
Administrator, Agricultural Marketing Service.

[FR Doc. 2013-09383 Filed 4-19-13; 8:45 am]

BILLING CODE 3410-02-P